DEPARTMENT OF HOMELAND SECURITY

Coast Guard

33 CFR Part 165

[Docket No. USCG-2019-0712]

Safety Zone; Brandon Road Lock and Dam to Lake Michigan including Des Plaines River, Chicago Sanitary and Ship Canal, Chicago River, and Calumet-Saganashkee Channel, Chicago, IL

AGENCY: Coast Guard, DHS.

ACTION: Notice of enforcement of regulation.

SUMMARY: The Coast Guard will enforce a segment of the Safety Zone; Brandon Road Lock and Dam to Lake Michigan including Des Plaines River, Chicago Sanitary and Ship Canal, Chicago River, and Calumet-Saganashkee Channel on all waters of the South Branch of the Chicago River and the Chicago Sanitary and Ship Canal between the South Pulaski Road Bridge and the South Loomis Street Bridge in Chicago, Illinois on September 28, 2019. This action is necessary to protect spectators, participants, and vessels from the hazards associated with a crew regatta event. During the enforcement period listed below, entry into, transiting, or anchoring within the safety zone is prohibited unless specifically authorized by the Captain of the Port Lake Michigan or a designated representative.

DATES: The regulations in 33 CFR 165.930 will be enforced from 7 a.m. through 3 p.m. on September 28, 2019.

FOR FURTHER INFORMATION CONTACT: If you have questions about this notice of enforcement, contact LT Tiziana Garner, Waterways Management Division, MSU Chicago,telephone 630-986-2155; email address D09-SMB-MSUChicago-WWM@uscg.mil.

SUPPLEMENTARY INFORMATION: The Coast Guard will enforce a segment of the Safety Zone: Brandon Road Lock and Dam to Lake Michigan including Des Plaines River, Chicago Sanitary and Ship Canal, Chicago River, Calumet-Saganashkee Channel, Chicago, IL, listed in 33 CFR 165.930. Specifically, the Coast Guard will enforce this safety zone on the South Branch of the Chicago River and the Chicago Sanitary and Ship Canal between the South Pulaski Road Bridge and the South Loomis Street Bridge in Chicago, Illinois, from 7 a.m. through 3 p.m. on September 28, 2019.

All vessels must obtain permission from the Captain of the Port, Lake Michigan, or a designated on-scene representative to enter, move within, or exit this safety zone during the enforcement times listed in this notice of enforcement. Entry into, transiting, or anchoring within the safety zone is prohibited unless authorized by the Captain of the Port Lake Michigan or a designated on-scene representative. Vessels and persons granted permission to enter the safety zone shall obey all lawful orders or directions of the Captain of the Port Lake Michigan, or an on-scene representative.

This notice of enforcement is issued under authority 33 CFR 165.930 and 5 U.S.C 552(a). In addition to this publication in the Federal Register, the Coast Guard will provide the maritime community with advance notification of this enforcement period via Broadcast Notice to Mariners and Local Notice to Mariners. Additionally, the Captain of the Port Lake Michigan may notify representatives from the maritime industry through telephonic notifications, email notifications, or by direct communication from on scene patrol commanders. If the Captain of the Port or a designated representative determines that the regulated area need not be enforced for the full duration stated in this notice of enforcement, he or she may grant general permission to enter the regulated area via Broadcast Notice to Mariners. The Captain of the Port Lake Michigan or a designated on-scene representative may be contacted via Channel 16, VHF-FM or at (414) 747-7182.

Dated: September 3, 2019.
Thomas J. Stuhlreyer,
Captain, U.S. Coast Guard, Captain of the Port Lake Michigan.

[FR Doc. 2019-19322 Filed 9-5-19; 8:45 am]

BILLING CODE 9110-04-P